DEPARTMENT OF HOMELAND SECURITY

Office of the Secretary

[Docket No. DHS-2008-0113]

Privacy Act of 1974; United States Coast Guard Courts Martial Case Files System of Records

AGENCY: Privacy Office; DHS.

ACTION: Notice of Privacy Act system of records.

SUMMARY: In accordance with the Privacy Act of 1974, and as part of the Department of Homeland Security ongoing effort to review and update legacy system of record notices the Department of Homeland Security is giving notice that it proposes to consolidate two legacy record systems: DOT/CG 507 Coast Guard Supplement to the Manual of Courts Martial Investigations and DOT/CG 510 Records of Trial: Special, General and Summary Courts Martial into a Department of Homeland Security system of records notice titled, United States Coast Guard Courts Martial Case Files. This system will be used by the United States Coast Guard to collect and maintain records on military and civilian employees of the United States Coast Guard who are tried by, or involved with, court martial in the United States Coast Guard. Categories of individuals, categories of records, and the routine uses of these legacy system of records notices have been consolidated and updated to better reflect the Department of Homeland Security/United States Coast Guard's courts martial record systems. Concurrent with this publication, the Department of Homeland Security is publishing a notice of proposed rulemaking to exempt this system from certain aspects of the Privacy Act. This system will be included in the Department's inventory of record systems.

DATES: Submit comments on or before December 1, 2008. This new system will be effective December 1, 2008.

ADDRESSES: You may submit comments, identified by docket number DHS-2008-0113 by one of the following methods:

• Federal e-Rulemaking Portal: http://www.regulations.gov. Follow the instructions for submitting comments.

• Fax: 1-866-466-5370.

• Mail: Hugo Teufel III, Chief Privacy Officer, Privacy Office, Department of Homeland Security, Washington, DC 20528.

• Instructions: All submissions received must include the agency name and docket number for this rulemaking. All comments received will be posted without change and may be read at http://www.regulations.gov, including any personal information provided.

• Docket: For access to the docket to read background documents or comments received, go to http://www.regulations.gov.

FOR FURTHER INFORMATION CONTACT: For general questions please contact: David Roberts (202-475-3521), Privacy Officer, United States Coast Guard. For privacy issues please contact: Hugo Teufel III (703-235-0780), Chief Privacy Officer, Privacy Office, U.S. Department of Homeland Security, Washington, DC 20528.

SUPPLEMENTARY INFORMATION:

I. Background

Pursuant to the savings clause in the Homeland Security Act of 2002, Public Law 107-296, Section 1512, 116 Stat. 2310 (November 25, 2002), the Department of Homeland Security (DHS)/United States Coast Guard (USCG) have relied on preexisting Privacy Act systems of records notices for the collection and maintenance of records pertaining to courts martial case files regarding the USCG military personnel.

As part of its efforts to streamline and consolidate its record systems, DHS is establishing a component system of records under the Privacy Act (5 U.S.C. 552a) for USCG that deals with courts martial case files. This record system is titled, United States Coast Guard Courts Martial Case Files, and is a compilation of two USCG legacy SORNs: DOT/CG 507 Coast Guard Supplement to the Manual of Courts Martial Investigations (65 FR 19476 April 11, 2000) and DOT/CG 510 Records of Trial: Special, General and Summary Courts Martial (65 FR 19476 April 11, 2000). This records system will allow DHS/USCG to collect and maintain records regarding military justice administration and documentation of DHS/USCG court martial.

In accordance with the Privacy Act of 1974, DHS is giving notice that it proposes to consolidate two legacy record systems: DOT/CG 507 Coast Guard Supplement to the Manual of Courts Martial Investigations (65 FR 19476 April 11, 2000) and DOT/CG 510 Records of Trial: Special, General and Summary Courts Martial (65 FR 19476 April 11, 2000) into a DHS system of records notice titled, United States Coast Guard Courts Martial Case Files. This system will be used by DHS/USCG to collect and maintain records on USCG active duty, reserve, and retired active duty and retired reserve military personnel and other individuals who are tried by, or involved with, court martial in the USCG. Categories of individuals, categories of records, and the routine uses of these legacy system of records notices have been consolidated and updated to better reflect the DHS/USCG's courts martial record systems. Concurrent with this publication, the Department of Homeland Security is publishing a notice of proposed rulemaking to exempt this system from certain aspects of the Privacy Act. This system will be included in the Department's inventory of record systems.

II. Privacy Act

The Privacy Act embodies fair information principles in a statutory framework governing the means by which the United States Government collects, maintains, uses, and disseminates individuals' records. The Privacy Act applies to information that is maintained in a “system of records.” A “system of records” is a group of any records under the control of an agency for which information is retrieved by the name of an individual or by some identifying number, symbol, or other identifying particular assigned to the individual. In the Privacy Act, an individual is defined to encompass United States citizens and legal permanent residents. As a matter of policy, DHS extends administrative Privacy Act protections to all individuals where systems of records maintain information on U.S. citizens, lawful permanent residents, and visitors. Individuals may request access to their own records that are maintained in a system of records in the possession or under the control of DHS by complying with DHS Privacy Act regulations, 6 CFR Part 5.

The Privacy Act requires each agency to publish in the Federal Register a description denoting the type and character of each system of records that the agency maintains, and the routine uses that are contained in each system in order to make agency record keeping practices transparent, to notify individuals regarding the uses of their records, and to assist individuals to more easily find such files within the agency. Below is the description of the United States Coast Guard Courts Martial Files System of Records.

In accordance with 5 U.S.C. 552a(r), DHS has provided a report of this system of records to the Office of Management and Budget (OMB) and to Congress.

System of Records:

DHS/USCG-008.

System name:

United States Coast Guard Courts Martial Case Files.

Security classification:

Unclassified.

System location:

Records are maintained at the United States Coast Guard Headquarters in Washington, DC, and in field offices.

Categories of individuals covered by the system:

Categories of individuals covered by this system include all USCG active duty, reserve, and retired active duty and retired reserve military personnel and other individuals who are tried by, or involved with, court martial.

Categories of records in the system:

Categories of records in this system include:

• Individual's name;

• Social Security number;

• Employee identification number;

• Date of birth;

• Addresses;

• E-mail address;

• Telephone numbers;

• Job-related information including: Job title, rank, duty station, supervisor's name and telephone number; and

• Records of trial (contents are in accordance with Article 54 of the Uniform Code of Military Justice and Rule for Court Martial 1103 which includes charge sheet, exhibits, transcript of trial, sentencing report, arguments, and various other documents).

Authority for maintenance of the system:

5 U.S.C. 301; The Federal Records Act, 44 U.S.C. 3101; 14 U.S.C. 93(e), 632; 10 U.S.C. 815; 10 U.S.C. 865; E.O. 11835; DHS Delegation 0170.1.

Purpose(s):

The purpose of this system is to document courts martial case files relating to the all USCG active duty, reserve, and retired active duty and retired reserve military personnel and other individuals who are tried by, or involved with, court martial.

Routine uses of records maintained in the system, including categories of users and the purposes of such uses:

Courts martial records reflect criminal proceedings ordinarily open to the public; therefore, they are normally releasable to the public pursuant to the Freedom of Information Act. In addition to those disclosures generally permitted under 5 U.S.C. 552a(b) of the Privacy Act, all or a portion of the records of information contained in this system may be disclosed outside DHS as a routine use pursuant to 5 U.S.C. 552a(b)(3) as follows:

A. To the Department of Justice (including United States Attorney Offices) or other Federal agency conducting litigation or in proceedings before any court, adjudicative or administrative body when it is necessary to the litigation and one of the following is a party to the litigation or has an interest in such litigation:

1. DHS or any component thereof;

2. Any employee of DHS in his/her official capacity;

3. Any employee of DHS in his/her individual capacity where DOJ or DHS has agreed to represent the employee; or

4. The United States or any agency thereof, is a party to the litigation or has an interest in such litigation, and DHS determines that the records are both relevant and necessary to the litigation and the use of such records is compatible with the purpose for which DHS collected the records.

B. To a congressional office from the record of an individual in response to an inquiry from that congressional office made at the request of the individual to whom the record pertains.

C. To the National Archives and Records Administration or other Federal government agencies pursuant to records management inspections being conducted under the authority of 44 U.S.C. §§ 2904 and 2906.

D. To an agency, organization, or individual for the purpose of performing audit or oversight operations as authorized by law, but only such information as is necessary and relevant to such audit or oversight function.

E. To appropriate agencies, entities, and persons when:

1. DHS suspects or has confirmed that the security or confidentiality of information in the system of records has been compromised;

2. The Department has determined that as a result of the suspected or confirmed compromise there is a risk of harm to economic or property interests, identity theft or fraud, or harm to the security or integrity of this system or other systems or programs (whether maintained by DHS or another agency or entity) or harm to the individual who relies upon the compromised information; and

3. The disclosure made to such agencies, entities, and persons is reasonably necessary to assist in connection with DHS's efforts to respond to the suspected or confirmed compromise and prevent, minimize, or remedy such harm.

F. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

G. To an appropriate Federal, State, tribal, local, international, or foreign law enforcement agency or other appropriate authority charged with investigating or prosecuting a violation or enforcing or implementing a law, rule, regulation, or order, where a record, either on its face or in conjunction with other information, indicates a violation or potential violation of law, which includes criminal, civil, or regulatory violations and such disclosure is proper and consistent with the official duties of the person making the disclosure.

H. To an appropriate Federal, State, local, tribal, foreign, or international agency, if the information is relevant and necessary to a requesting agency's decision concerning the hiring or retention of an individual, or issuance of a security clearance, license, contract, grant, or other benefit, or if the information is relevant and necessary to a DHS decision concerning the hiring or retention of an employee, the issuance of a security clearance, the reporting of an investigation of an employee, the letting of a contract, or the issuance of a license, grant or other benefit and when disclosure is appropriate to the proper performance of the official duties of the person making the request.

I. To provide statistical data concerning the number of proceedings held, units holding proceedings, offenses committed, punishments imposed, and background data of individuals concerned.

J. To the Veterans Administration (VA) to assist USCG in determining the individual's entitlement to benefits administered by the VA.

K. To the confinement facility, if confinement is adjudged, and the confinement facility is not USCG facility.

L. To victims and witnesses of a crime for purposes of providing information, consistent with the requirements of the Victim and Witness Assistance Program, regarding the investigation and disposition of an offense pursuant to USCG Military Justice Manual, Article 4.B.1.d and subject to any restrictions provided by the Victim and Witness Protection Act of 1982 (Pub. L. 97-291).

Disclosure to consumer reporting agencies:

None.

Policies and practices for storing, retrieving, accessing, retaining, and disposing of records in the system:

Storage:

Records in this system are stored electronically or on paper in secure facilities in a locked drawer behind a locked door. The records can be stored on magnetic disc, tape, digital media, and CD-ROM.

Retrievability:

Records will be retrieved alphabetically by the name of the individual.

Safeguards:

Records in this system are safeguarded in accordance with applicable rules and policies, including all applicable DHS automated system security access policies. Strict controls have been imposed to minimize the risk of compromising the information that is being stored. Access to the computer system containing the records in this system is limited to those individuals who have a need to know the information for the performance of their official duties and who have appropriate clearances or permissions.

Retention and disposal:

All General Courts Martial and Special Courts Martial records involving Bad Conduct Discharge are permanent. Transfer to FRC 2 years after date of final action. Transfer to NARA 10 years after final action. (AUTH: NC1-26-76-2, Item 384a). Special Courts Martial other than those involving Bad Conduct Discharges are temporary. Transfer to FRC 2 years after date of final action. Destroy 10 years after date of final action. (AUTH: NC1-26-76-2, Item 384b). Summary Courts Martial convened after 5 May 1950 are Temporary. Transfer to FRC 2 years after date of final action. Destroy 10 years after date of final action. (AUTH: NC1-26-76-2, Item 384c(1)). (Records Officer)

System Manager and address:

Commandant, CG-0946, United States Coast Guard Headquarters, 2100 2nd Street, SW., Washington, DC 20593-0001.

Notification procedure:

Individuals seeking notification of and access to any record contained in this system of records, or seeking to contest its content, may submit a request in writing to Commandant, CG-0946, Office of Military Justice, United States Coast Guard Headquarters, 2100 2nd Street, SW., Washington, DC 20593-0001.

When seeking records about yourself from this system of records or any other USCG system of records your request must conform with the Privacy Act regulations set forth in 6 CFR Part 5. You must first verify your identity, meaning that you must provide your full name, current address and date and place of birth. You must sign your request, and your signature must either be notarized or submitted under 28 U.S.C. 1746, a law that permits statements to be made under penalty of perjury as a substitute for notarization. While no specific form is required, you may obtain forms for this purpose from the Director, Disclosure and FOIA, http://www.dhs.gov or 1-866-431-0486. In addition you should provide the following:

• An explanation of why you believe the Department would have information on you,

• Specify when you believe the records would have been created,

• If your request is seeking records pertaining to another living individual, you must include a statement from that individual certifying his/her agreement for you to access his/her records.

Without this bulleted information the USCG may not be able to conduct an effective search, and your request may be denied due to lack of specificity or lack of compliance with applicable regulations.

Record access procedures:

See “Notification procedure” above.

Contesting record procedures:

See “Notification procedure” above.

Record source categories:

USCG investigating officers, military, and civilian personnel. Individual service records from proceedings conducted. Trial proceedings and subsequent statutory reviews—Court of Military Review, Court of Appeals for the Armed Services, and Chief Counsel of the USCG.

Exemptions claimed for the system:

Pursuant to exemption 5 U.S.C. 552a(j)(2) of the Privacy Act, portions of this system are exempt from 5 U.S.C. 552a(c)(3) and (4); (d); (e)(1), (e)(2), (e)(3), (e)(4)(G), (e)(4)(H), (e)(4)(I), (e)(5) and (e)(8); (f), and (g). Pursuant to 5 U.S.C. 552a(k)(1) and (k)(2), this system is exempt from the following provisions of the Privacy Act, subject to the limitations set forth in those subsections: 5 U.S.C. 552a (c)(3), (d), (e)(1), (e)(4)(G), (e)(4)(H), (e)(4)(I), and (f).

Dated: October 22, 2008.
Hugo Teufel III,
Chief Privacy Officer, Department of Homeland Security.

[FR Doc. E8-25964 Filed 10-30-08; 8:45 am]

BILLING CODE 4410-10-P